DEPARTMENT OF JUSTICE

[OMB Number 1121-0094]

Agency Information Collection Activities; Proposed eCollection eComments Requested; Reinstatement, With Change, of a Previously Approved Collection for Which Approval Has Expired: Annual Survey of Jails

AGENCY: Bureau of Justice Statistics, Department of Justice.

ACTION: 60-Day Notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until March 27, 2020.

FOR FURTHER INFORMATION CONTACT: If you have comments especially on the estimated public burden or associated response time, suggestions, or need a copy of the proposed information collection instrument with instructions or additional information, please contact Zhen Zeng, Bureau of Justice Statistics, 810 Seventh Street NW, Washington, DC 20531 (email: Zhen.Zeng@usdoj.gov; telephone: 202-305-2711).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Reinstatement, with change, of a previously approved collection for which approval has expired.

2. Title of the Form/Collection: Annual Survey of Jails (ASJ).

3. Agency form number, if any, and the applicable component of the Department of Justice sponsoring the collection: The ASJ contains one form—CJ-5: 2020 Annual Survey of Jails. The applicable component within the Department of Justice is the Bureau of Justice Statistics (BJS), in the Office of Justice Programs.

4. Affected public who will be asked or required to respond, as well as a brief abstract: Approximately 950 jails, representing approximately 2,920 local jails (city, county, regional, and private), will be requested to provide information for the following categories:

(a) At midyear (last weekday in the month of June), the total number of inmates confined in jail facilities and the total number of persons under jail supervision, but not confined;

(b) At midyear, inmate counts by sex, juvenile status, race/Hispanic origin, probation and parole status, conviction status, severity of charge (felony or misdemeanor), and U.S. citizenship status;

(c) At midyear, the numbers of inmates held for federal authorities, state prison authorities, American Indian or Alaska Native tribal governments, and other local jails;

(d) On the weekend prior to midyear, whether the jail had a weekend program that allows offenders to serve their sentences of confinement only on weekends, and the number of program participants;

(e) Rated capacity at midyear;

(f) The date and count for the greatest number of confined inmates during the 30-day period in June;

(g) The average daily population by sex during the 12-month period from July 1 of last year to June 30 of current year;

(h) The number of new admissions into jail, and final discharges from jail, by sex during the 12-month period from July 1 of last year to June 30 of current year;

(i) At midyear, the number of staff members employed by the facility by sex and occupation (i.e., correctional officers or other staff).

The ASJ is the only national collection that tracks annual changes in the local jail population in the United States. The ASJ is fielded every year except in the years when BJS conducts the Census of Jails (OMB Control No. 1121-0100). BJS requests clearance for the 2020-22 ASJ under OMB Control No. 1121-0094. The ASJ was last approved under OMB Control No. 1121-0094 (exp. date 01/31/2019), where it was bundled with the Mortality in Correctional Institutions-Jails (MCI, formerly the Deaths in Custody Reporting Program, OMB Control No. 1121-0249) and Survey of Jails in Indian Country (OMB Control No. 1121-0329). In 2017, the ASJ was separated from the MCI-Jails and became a stand-alone collection again.

5. An estimate of the total number of respondents and the amount of time estimated for an average respondent to respond: During data collection in 2020, 950 respondents will each take an average of 75 minutes to complete the CJ-5 form (see table 1). Data quality follow-up is needed for an estimated 70% of the respondents (665) and the validation will run an average of 10 minutes for each respondent. In addition, about 60 jails will be contacted to verify facility operational status and point-of-contact information, which takes 5 minutes each on average. These estimates are based on previous estimates of item burden and input received from participants in the 2018 jail collection cognitive test (generic OMB clearance, Control No. 1121-0249). Data collection in 2021 and 2022 will involve the same number of respondents and require the same level of burden. In total, there is an estimated 3,912 total burden hours associated with this collection for the three years of data collection, or approximately 1,304 hours for each year.

Table 1—Reporting Mode and Estimated Burden
Primary reporting mode | Purpose of contact | Number of data providers (RUs) | Number of responses | Average reporting time (min) | Estimated total burden hours (hrs)
Web | Data collection | 950 | 950 | 75 | 1,188
Email and telephone | Data quality follow-up validation | 665 | 665 | 10 | 111
Email and telephone | Verify facility operational status and point-of-contact | 60 | 60 | 5 | 5
Total |  |  |  |  | 1,304

If additional information is required, contact: Melody Braswell, Department Clearance Officer, United States Department of Justice, Justice Management Division, Policy and Planning Staff, Two Constitution Square, 145 N Street NE, 3E.405A, Washington, DC 20530.

Dated: January 21, 2020.
Melody Braswell,
Department Clearance Officer for PRA, U.S. Department of Justice.

[FR Doc. 2020-01215 Filed 1-24-20; 8:45 a.m.]

BILLING CODE 4410-18-P